DEPARTMENT OF COMMERCE

National Oceanic and Atmospheric Administration

50 CFR Part 679

[Docket No. 000623193-0193-01; I.D. 060800D]

Fisheries of the Exclusive Economic Zone Off Alaska; Prohibited Species Catch in the Bering Sea and Aleutian Islands, Correction

AGENCY: National Marine Fisheries Service (NMFS), National Oceanic and Atmospheric Administration (NOAA), Commerce.

ACTION: Final 2000 harvest specifications; technical amendment; correction.

SUMMARY: This document corrects Table 7 of the technical amendment to the final 2000 prohibited species catch (PSC) allowances specified for trawl groundfish fisheries of the Bering Sea and Aleutian Islands (BSAI).

DATES: Effective June 15, 2000, through 2400 hrs A.l.t. December 31, 2000.

FOR FURTHER INFORMATION CONTACT: Andrew N. Smoker, 907-586-7228.

SUPPLEMENTARY INFORMATION: This document contains corrections to the technical amendment to the final 2000 PSC allowances specified for trawl groundfish fisheries of the BSAI.

The technical amendment (65 FR 42302, July 10, 2000) to the Final 2000 Harvest Specifications for Groundfish (65 FR 8282, February 18, 2000) established PSC allowances under regulations implementing Amendment 57 to the Fishery Management Plan for the Groundfish Fishery of the Bering Sea and Aleutian Islands Area (FR 65 31105, May 16, 2000). The 2000 Pacific halibut and crab PSC limits for the BSAI trawl fisheries were reduced to the following amounts: Pacific halibut, 3,675 mt; Zone 1 red king crab, 97,000 animals; Chionoecetes (C.) opilio, 4,350,000 animals; C. bairdi Zone 1,830,000; and C. bairdi Zone 2, 2,520,000 animals.

Correction

In the technical amendment, Fisheries of the Exclusive Economic Zone Off Alaska; Prohibited Species Catch in the Bering Sea and Aleutian Islands, published on July 10, 2000 (65 FR 42302), FR Doc. 00-17269, corrections are made as follows:

1. In the document, 2000 harvest specifications; technical amendment, published on July 10, 2000 (65 FR 42302), FR Doc. 00-17269, on page 42303, mathematical errors were made in Table 7. Table 7 is corrected to read as follows:

Table 7 to Part 679 [Corrected]

In the second column, under the heading, “Halibut mortality (mt) BSAI,” the sixth entry, “7457” that corresponds with “Jan. 1-April 30,” is corrected to read “457” and in the last line “4,675” that corresponds with the “Grand Total” is corrected to read “4,576”.

Dated: September 13, 2000.
Bruce C. Morehead,
Acting Administrator for Fisheries, National Marine Fisheries Service.

[FR Doc. 00-24015 Filed 9-18-00; 8:45 am]

BILLING CODE 3510-22-S